DEPARTMENT OF THE INTERIOR

National Park Service

[N6338; NPS-WASO-NAGPRA-NPS0040527; PPWOCRADN0-PCU00RP14.R50000]

Notice of Intended Repatriation: Old Dartmouth Historical Society, d.b.a. New Bedford Whaling Museum, New Bedford, MA

AGENCY: National Park Service, Interior.

ACTION: Notice.

SUMMARY: In accordance with the Native American Graves Protection and Repatriation Act (NAGPRA), the Old Dartmouth Historical Society, d.b.a. New Bedford Whaling Museum (NBWM) intends to repatriate certain cultural items that meet the definition sacred objects and that have a cultural affiliation with the Indian Tribes or Native Hawaiian organizations in this notice.

DATES: Repatriation of the cultural items in this notice may occur on or after August 27, 2025.

ADDRESSES: Send additional, written requests for repatriation of the cultural items in this notice to Naomi Slipp, The Old Dartmouth Historical Society, d.b.a. The New Bedford Whaling Museum, 18 Johnny Cake Hill, New Bedford, MA 02740, email nslipp@whalingmuseum.org.

SUPPLEMENTARY INFORMATION: This notice is published as part of the National Park Service's administrative responsibilities under NAGPRA. The determinations in this notice are the sole responsibility of the NBWM, and additional information on the determinations in this notice, including the results of consultation, can be found in the summary or related records. The National Park Service is not responsible for the determinations in this notice.

Abstract of Information Available

A total of eight cultural items have been requested for repatriation. The eight sacred objects are one hook (2001.100.1347), one cloth (00.200.914.2), two necklaces (2001.100.2063; 2001.100.2343), two wristlets (2001.100.2301; 2001.100.2302), one bark cloth (00.200.609), and one pendant (2001.100.2157). The sacred objects were removed from Hawaii.

Six cultural items (2001.100.1347; 2001.100.2063; 2001.100.2157; 2001.100.2301; 2001.100.2302; and 2001.100.2343) were previously in the collection of the Kendall Whaling Museum before merging with NBWM in 2001.

Two cultural items (00.200.609; 00.200.914.2) were found in the collection at NBWM. It is unknown exactly how or when they were obtained.

The NBWM has no knowledge of any potentially hazardous substances used to treat the sacred objects.

Determinations

The NBWM has determined that:

• The eight sacred objects described in this notice are specific ceremonial objects needed by a traditional Native American religious leader for present-day adherents to practice traditional Native American religion, according to the Native American traditional knowledge of a lineal descendant, Indian Tribe, or Native Hawaiian organization.

• There is a reasonable connection between the cultural items described in this notice and the Kia'i Kanaloa.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after August 27, 2025. If competing requests for repatriation are received, the NBWM must determine the most appropriate requestor prior to repatriation. Requests for joint repatriation of the cultural items are considered a single request and not competing requests. The NBWM is responsible for sending a copy of this notice to the Indian Tribes and Native Hawaiian organizations identified in this notice and to any other consulting parties.

Authority: Native American Graves Protection and Repatriation Act, 25 U.S.C. 3004 and the implementing regulations, 43 CFR 10.9.

Dated: July 1, 2025
Melanie O'Brien,
Manager, National NAGPRA Program.

[FR Doc. 2025-14168 Filed 7-25-25; 8:45 am]

BILLING CODE 4312-52-P